DEPARTMENT OF STATE

[Public Notice No. 3329]

United States International Telecommunication Advisory Committee; Radiocommunication Sector (ITAC-R); Notice of Meeting

The Department of State announces a meeting of the U.S. International

Telecommunication Advisory Committee Radiocommunication Sector (ITAC-R). The purpose of the Committee is to advise the Department on policy and positions with respect to the International Telecommunication Union and international radiocommunication matters.

The ITAC-R will meet from 1:30 to 4:30 on July 6, 2000, at the Department of State in room 1205 to prepare for the next cycle of radiocommunication activites of the International Telecommunication Union (ITU) and the Inter-American Telecommunication Commission (CITEL), taking account of the recently concluded Radiocommunication Assembly and the World Radiocommunication Conference 2000. Members of the general public may attend this meeting and join in the discussions, subject to the instructions of the Chair. Admission of public members will be limited to seating available. Entrance to the Department of State is controlled; people intending to attend ITAC-R meeting and subsequent preparatory meetings for the CPM should send an e-mail to Cheryl Williams (williamscd@state.gov) or fax to (202) 647-7407 no later than 48 hours before the meeting. The fax should include the name of the meeting (Prep for radiocommunications activities of ITU and CITEL), date of the meeting, your name, social security number, date of birth, and organization. One of the following will be required for admission. U.S. driver's license, U.S. passport, or U.S. Government identification card. Enter from the C Street Entrance; in view of escorting requirement, non-government attendees should plan to arrive not less than 15 minutes before the meeting begins.

Dated: June 21, 2000.
Brian Ramsay,
ITAC-R National Committee, Department of State.

[FR Doc. 00-16344 Filed 6-27-00; 8:45 am]

BILLING CODE 4710-45-P